DEPARTMENT OF TRANSPORTATION

Coast Guard

33 CFR Part 117

[CGD09-01-001]

RIN 2115-AE47

Drawbridge Operation Regulations; Manitowoc River, WI

AGENCY: Coast Guard, DOT.

ACTION: Direct final rule; confirmation of effective date.

SUMMARY: On March 6, 2001, we published a direct final rule (66 FR 13433). This direct final rule notified the public of our intent to revise the operating regulations governing the Eighth Street bridge (mile 0.29), Tenth Street bridge (mile 0.43), and the Wisconsin Central (formerly Soo Line) bridge (mile 0.91), on the Manitowoc River. The direct final rule re-established the schedule published in 1983 that was erroneously removed by another rule in 1984. We have not received an adverse comment or notice of intent to submit adverse comment on this rule. Therefore, this rule will go into effect as scheduled.

DATES: The effective date of the direct final rule is confirmed as June 4, 2001.

FOR FURTHER INFORMATION CONTACT: Mr. Scot M. Striffler, Project Manager, Ninth Coast Guard District (obr), at (216) 902-6084.

Dated: May 7, 2001.
James D. Hull,
Rear Admiral, U.S. Coast Guard, Commander, Ninth Coast Guard District.

[FR Doc. 01-12722 Filed 5-18-01; 8:45 am]

BILLING CODE 4910-15-U